FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted May 1, 2020 Thru May 31, 2020
05/01/2020
20201000 | G | The Carle Foundation; Advocate Aurora Health, Inc.; The Carle Foundation.
05/04/2020
20200999 | G | TPG Partners VIII, L.P.; LifeStance Health, LLC; TPG Partners VIII, L.P.
20201001 | G | Quincy Health, LLC; Quorum Health Corp.; Quincy Health, LLC.
20201002 | G | Mr. Len Blavatnik; DigitalOcean Holdings, Inc.; Mr. Len Blavatnik.
20201003 | G | Reyes Holdings, L.L.C.; Thomas J. Louderback; Reyes Holdings, L.L.C.
20201005 | G | Providence Equity Partners VIII L.P.; OUTFRONT Media Inc.; Providence Equity Partners VIII L.P.
20201006 | G | Ares Special Opportunities Fund (Offshore), L.P.; OUTFRONT Media Inc.; Ares Special Opportunities Fund (Offshore), L.P.
05/05/2020
20191732 | S | AbbVie Inc.; Allergan plc; AbbVie Inc.
05/06/2020
20200992 | G | Starwood Opportunity Fund XI Global, L.P.; Extended Stay America, Inc.; Starwood Opportunity Fund XI Global, L.P.
20201008 | G | ProAssurance Corporation; Norcal Mutual Insurance Company; ProAssurance Corporation.
05/11/2020
20201012 | G | IIF US Holding LP; Xcel Energy Inc.; IIF US Holding LP.
20201013 | G | Eros International plc; STX Filmworks, Inc.; Eros International plc.
20201014 | G | Artur Bergman; Fastly, Inc.; Artur Bergman.
20201016 | G | Turning Point Brands, Inc.; Standard General Offshore Fund Ltd.; Turning Point Brands, Inc.
20201023 | G | KKR Americas Fund XII, L.P.; US Foods Holding Corp.; KKR Americas Fund XII, L.P.
20201024 | G | Flexpoint Fund IV-A, L.P.; TigerRisk Partners LLC; Flexpoint Fund IV-A, L.P.
05/13/2020
20201025 | G | LS Power Equity Partners IV, L.P.; Siemens Aktiengesellschaft; LS Power Equity Partners IV, L.P.
05/14/2020
20201021 | G | Ingredion Incorporated; PureCircle Limited; Ingredion Incorporated.
05/19/2020
20201034 | G | Wellspring Capital Partners VI, L.P.; Merit Mezzanine Fund VI, L.P.; Wellspring Capital Partners VI, L.P.
20201035 | G | Cognizant Technology Solutions Corporation; William C. Ross, Jr. and Peri Ross; Cognizant Technology Solutions Corporation.
20201039 | G | Nemo Investor Aggregator, Ltd.; OneSpaWorld Holdings Limited; Nemo Investor Aggregator, Ltd.
20201042 | G | TPG Inertia Holdings, LP; Moshe Yanai; TPG Inertia Holdings, LP.
05/20/2020
20201036 | G | Adam D'Angelo; Quora, Inc.; Adam D'Angelo.
05/21/2020
20200939 | G | WillScot Corporation; Mobile Mini, Inc.; WillScot Corporation.
05/26/2020
20201040 | G | GHO Capital Fund II LP; X-Co Holdings, LP; GHO Capital Fund II LP.
20201044 | G | Royal Dutch Shell plc; National Fuel Gas Company; Royal Dutch Shell plc.
20201045 | G | National Fuel Gas Company; Royal Dutch Shell plc; National Fuel Gas Company.
20201050 | G | USI Advantage Corp.; Associated Banc-Corp.; USI Advantage Corp.
20201053 | G | Aves IA Infrastructure Limited Partnership; Newco LLC; Aves IA Infrastructure Limited Partnership.
20201054 | G | Aflac Incorporated; Zurich Insurance Group Ltd.; Aflac Incorporated.
20201056 | G | Clayton, Dubilier & Rice Fund X, L.P.; Randal D. Boyd; Clayton, Dubilier & Rice Fund X, L.P.
20201061 | G | Change Healthcare Inc.; National Health Coalition, Inc.; Change Healthcare Inc.
20201063 | G | Lyndon Lea; Prism Data, LLC; Lyndon Lea.
05/27/2020
20201046 | G | Halmont Properties Corporation; TerraForm Power NY Holdings, Inc.; Halmont Properties Corporation.
20201047 | G | Brookfield Renewable Partners L.P.; TerraForm Power NY Holdings, Inc.; Brookfield Renewable Partners L.P.

FOR FURTHER INFORMATION CONTACT: Theresa Kingsberry (202-326-3100), Program Support Specialist, Federal Trade Commission Premerger Notification Office, Bureau of Competition, Room CC-5301, Washington, DC 20024.

By direction of the Commission.
April J. Tabor,
Secretary.

[FR Doc. 2020-13109 Filed 6-17-20; 8:45 am]

BILLING CODE 6750-01-P